DEPARTMENT OF EDUCATION

National Institute on Disability and Rehabilitation Research (NIDRR)—Disability and Rehabilitation Research Projects and Centers Program—Rehabilitation Research and Training Centers (RRTCs)—Employment Outcomes for Individuals Who Are Blind or Visually Impaired

AGENCY: Office of Special Education and Rehabilitative Services, Department of Education.

ACTION: Notice of final priority.

Catalog of Federal Domestic Assistance (CFDA) Number: 84.133B-6.

SUMMARY: The Assistant Secretary for Special Education and Rehabilitative Services announces a priority for the Disability and Rehabilitation Research Projects and Centers Program administered by NIDRR. Specifically, this notice announces a priority for an RRTC on Employment Outcomes for Individuals who are Blind or Visually Impaired. The Assistant Secretary may use this priority for competitions in fiscal year (FY) 2010 and later years. We take this action to focus research attention on areas of national need. We intend this priority to improve rehabilitation services and outcomes for individuals with disabilities.

DATES: Effective Date: This priority is effective July 21, 2010.

FOR FURTHER INFORMATION CONTACT: Marlene Spencer, U.S. Department of Education, 400 Maryland Avenue, SW., room 5133, Potomac Center Plaza (PCP), Washington, DC 20202-2700. Telephone: (202) 245-7532 or by e-mail: Marlene.Spencer@ed.gov.

If you use a telecommunications device for the deaf (TDD), call the Federal Relay Service (FRS), toll free, at 1-800-877-8339.

SUPPLEMENTARY INFORMATION: This notice of final priority is in concert with NIDRR's Final Long-Range Plan for FY 2005-2009 (Plan). The Plan, which was published in the Federal Register on February 15, 2006 (71 FR 8165), can be accessed on the Internet at the following site: http://www.ed.gov/about/offices/list/osers/nidrr/policy.html.

Through the implementation of the Plan, NIDRR seeks to: (1) Improve the quality and utility of disability and rehabilitation research; (2) foster an exchange of expertise, information, and training to facilitate the advancement of knowledge and understanding of the unique needs of traditionally underserved populations; (3) determine best strategies and programs to improve rehabilitation outcomes for underserved populations; (4) identify research gaps; (5) identify mechanisms of integrating research and practice; and (6) disseminate findings.

Purpose of Program: The purpose of the Disability and Rehabilitation Research Projects and Centers Program is to plan and conduct research, demonstration projects, training, and related activities, including international activities, to develop methods, procedures, and rehabilitation technology that maximize the full inclusion and integration into society, employment, independent living, family support, and economic and social self-sufficiency of individuals with disabilities, especially individuals with the most severe disabilities, and to improve the effectiveness of services authorized under the Rehabilitation Act of 1973, as amended.

RRTC Program

The purpose of the RRTC program is to improve the effectiveness of services authorized under the Rehabilitation Act of 1973, as amended, through advanced research, training, technical assistance, and dissemination activities in general problem areas, as specified by NIDRR. Such activities are designed to benefit rehabilitation service providers, individuals with disabilities, and the family members or other authorized representatives of individuals with disabilities. In addition, NIDRR intends to require all RRTC applicants to meet the requirements of the General Rehabilitation Research and Training Centers (RRTC) Requirements priority that it published in a notice of final priorities in the Federal Register on February 1, 2008 (73 FR 6132). Additional information on the RRTC program can be found at: http://www.ed.gov/rschstat/research/pubs/res-program.html#RRTC.

Statutory and Regulatory Requirements of RRTCs

RRTCs must—

• Carry out coordinated advanced programs of rehabilitation research;

• Provide training, including graduate, pre-service, and in-service training, to help rehabilitation personnel more effectively provide rehabilitation services to individuals with disabilities;

• Provide technical assistance to individuals with disabilities, their representatives, providers, and other interested parties;

• Disseminate informational materials to individuals with disabilities, their representatives, providers, and other interested parties; and

• Serve as centers of national excellence in rehabilitation research for individuals with disabilities, their representatives, providers, and other interested parties.

Applicants for RRTC grants must also demonstrate in their applications how they will address, in whole or in part, the needs of individuals with disabilities from minority backgrounds.

Program Authority: 29 U.S.C. 762(g) and 764(b)(2).

Applicable Program Regulations: 34 CFR part 350.

We published a notice of proposed priority (NPP) for NIDRR's Disability and Rehabilitation Research Projects and Centers Program in the Federal Register on March 26, 2010 (75 FR 14585). That notice contained background information and our reasons for proposing the particular priority.

There are two differences between the NPP and this notice of final priority (NFP) as discussed in the following section.

Public Comment: In response to our invitation in the NPP, four parties submitted comments on the proposed priority. An analysis of the comments and of any changes in the priority since publication of the NPP follows.

Generally, we do not address technical and other minor changes or suggested changes the law does not authorize us to make under the applicable statutory authority. In addition, we do not address general comments that raised concerns not directly related to the proposed priority.

Analysis of Comments and Changes

Comment: One commenter proposed that the RRTC conduct research on, and provide training and technical assistance to, the Randolph-Sheppard program.

Discussion: Although the Randolph-Sheppard program is not explicitly mentioned in the priority, nothing would preclude applicants from conducting research on, or providing training and technical assistance to, individuals associated with that program. However, NIDRR does not have a sufficient basis for requiring all applicants to do so.

Changes: None.

Comment: One commenter noted that many current practices to improve employment outcomes for individuals who are blind or visually impaired are not widely known or easily identified. This commenter suggested that the Center should engage in survey data collection or interviews with rehabilitation providers to comprehensively identify ongoing practices and interventions for this population. The commenter noted that this comprehensive identification of current practices will serve as a resource to service providers, and provide a list of practices that can be evaluated. Therefore, this commenter suggested that NIDRR consider adding “identifying” to paragraph (a) of the priority as part of the process for “evaluating practices currently in use.”

Discussion: NIDRR agrees that a comprehensive list of current practices or interventions that are designed to facilitate competitive employment outcomes for individuals who are blind or visually impaired may be useful to service providers and researchers. However, a comprehensive list of such practices and interventions is not a necessary step toward the development of evidence for particular practices or interventions. If applicants choose to conduct research that involves evaluating practices that are currently in use, they are free either to identify and justify such practices in their proposals or to specify a process by which they will identify these practices prior to evaluation. The peer review process will determine the merits of each proposal.

Changes: None.

Comment: One commenter asked whether this RRTC must use randomized control trials to evaluate the effectiveness of new interventions or practices on employment.

Discussion: The priority does not require that the RRTC employ randomized control trial research designs to evaluate the effectiveness of interventions or practices. NIDRR believes that randomized control trial research designs can be appropriate for research that involves evaluating specific interventions. However, in complex service delivery settings, other scientifically rigorous research designs may be more appropriate or feasible. Therefore, the choice of research design is left to the applicant. The peer review process will determine the merits of each proposal.

Changes: None.

Comment: One commenter asked whether NIDRR intends that evaluations of practices or interventions only include participants who are legally blind.

Discussion: For the purposes of this priority, NIDRR has defined the target population—individuals who are blind or visually impaired—as individuals who have “central visual acuity of 20/200 or less in the better eye with the use of a correcting lens. An eye which is accompanied by a limitation in the fields of vision such that the widest diameter of the visual field subtends an angle no greater than 20 degrees shall be considered for purposes of this paragraph as having a central visual acuity of 20/200 or less” (42 U.S.C. 416(i)(1)(B)); NIDRR includes this definition in the opening paragraph of this priority. Within the constraints of this definition, applicants have the flexibility to specify their target population for the purposes of their proposed projects.

Changes: None.

Comment: One commenter stated that research is needed to develop and evaluate new interventions and practices and to evaluate practices that are currently in use. This commenter suggested that research conducted under paragraphs (a) and (b) of the priority should include the development and evaluation of new interventions and practices as well as the evaluation of practices that are currently in use.

Discussion: The priority states that the RRTC must develop and evaluate new practices, or evaluate practices currently in use, or conduct both kinds of research. NIDRR does not require an applicant to conduct both types of research, because such a requirement may reduce the resources that are available to fulfill other requirements of the RRTC. NIDRR seeks to maintain flexibility to allow a range of viable options for generating new knowledge about practices or interventions that can help improve the employment outcomes of individuals with disabilities.

Changes: None.

Comment: One commenter stated that the RRTC should build upon research that demonstrates effective employment practices for other populations by modifying and evaluating those practices for individuals who are blind or visually impaired.

Discussion: Modifying and evaluating employment practices that have been found to be effective for other populations is one option for identifying interventions and practices for individuals who are blind or visually impaired, as required under paragraph (a) of the priority. However, NIDRR does not have a sufficient basis for requiring that all applicants take this approach. NIDRR does not wish to preclude applicants from using other viable methods or approaches for determining practices and interventions for further evaluation.

Changes: None.

Comment: One commenter noted that a large majority of young individuals who are blind or have low vision also have other potentially disabling conditions and that the RRTC should be required to conduct research on more than one at-risk subgroup under paragraph (b) of the priority.

Discussion: The priority requires applicants to propose research with at least one at-risk subgroup. Applicants are free to propose research with more than one at-risk group. However, given the limited resources of the RRTC, NIDRR does not want to require applicants to conduct research on more than one at-risk subgroup.

Changes: None.

Comment: One commenter suggested that the list of possible collaborators in paragraph (c) of the priority be modified to include nongovernmental or nonprofit organizations whose missions focus on improving social and vocational integration for people with visual impairments.

Discussion: NIDRR agrees that relevant nongovernmental or nonprofit organizations could be appropriate collaborators under paragraph (c) of the priority.

Changes: NIDRR has revised paragraph (c)(1) to add relevant nongovernmental or nonprofit organizations to the list of examples of potential collaborators.

Comment: One commenter suggested that the requirement for training and dissemination activities to facilitate the utilization of research findings in employment and vocational rehabilitation (VR) settings in paragraph (c)(2) of the priority be amended to include conducting such activities to facilitate the use of research findings in educational settings.

Discussion: NIDRR agrees that knowledge of practices that increase competitive employment for individuals who are blind or visually impaired would be beneficial in educational settings.

Changes: NIDRR has amended paragraph (c)(2) of the priority to specify educational settings as a setting for training and dissemination efforts.

Comment: One commenter suggested that the priority require a significant portion of dissemination activities to be conducted via the Internet and be made available without charge.

Discussion: Disseminating information via the Internet is one option for fulfilling the dissemination requirement of this priority. However, NIDRR does not believe it is appropriate to require that all applicants engage in or prioritize disseminating information via the Internet. While NIDRR encourages applicants to use dissemination strategies that are accessible and that reach large numbers of individuals, NIDRR does not want to preclude applicants from using other viable methods or approaches to disseminate the results of their research. Therefore, the choice of dissemination strategy is left to the applicant. The peer review process will determine the merits of each proposal.

Changes: None.

Comment: One commenter suggested that the priority require research on the extent to which technology availability, accessibility, and usability have an impact on employment outcomes for individuals who are blind or visually impaired.

Discussion: Nothing in the priority precludes applicants from proposing to conduct research on the effects of technology on employment outcomes for this population. However, NIDRR does not require all applicants to focus on this factor because we do not want to preclude applicants from proposing research on other promising practices and interventions. The choice of practices or interventions to be evaluated under paragraphs (a) and (b) of the priority is left to the applicant. The peer review process will determine the merits of each proposal.

Changes: None.

Comment: One commenter suggested that NIDRR expand the focus of the priority to include not only research on employment outcomes but also outcomes related to economic self-sufficiency.

Discussion: Nothing in the priority precludes an applicant from investigating the effects of practices or interventions on economic self-sufficiency, in addition to their effects on competitive employment outcomes. However, NIDRR does not have a sufficient basis for requiring all applicants to do so. Given the limited resources for research in this area, NIDRR does not want to preclude applicants from proposing research topics and methods that focus specifically on promoting employment outcomes for the target population.

Changes: None.

Comment: One commenter suggested inserting “self-employment” outcomes wherever competitive employment outcomes are mentioned in the priority.

Discussion: The focus of this priority is on competitive employment outcomes. Nothing in the priority precludes an applicant from proposing that employment outcomes include self-employment. However, NIDRR does not have a sufficient basis for requiring all applicants to do so.

Changes: None.

Comment: One commenter suggested that the goal of paragraph (c) of the priority be expanded beyond increased incorporation of research findings into practice and policy to include an exploration of policy and system changes related to section 14c of the Fair Labor Standards Act and the Javits-Wagner-O'Day Act (JWOD).

Discussion: It is not the intent of paragraph (c) of this priority to specify research related to specific policies or statutory requirements. Applicants may wish to propose such research or evaluation activities under paragraphs (a) and (b) of the priority, if applicable.

Changes: None.

Final Priority

The Assistant Secretary for Special Education and Rehabilitative Services announces a priority for a Rehabilitation Research and Training Center (RRTC) on Employment Outcomes for Individuals Who are Blind or Visually Impaired. This RRTC must conduct research that contributes to improving competitive employment outcomes for individuals who are blind or visually impaired, consistent with the individual's informed choice and abilities (see section 100(a)(2)(B) of title I of the Rehabilitation Act of 1973, as amended). For the purposes of this priority, this population is defined as individuals who have “central visual acuity of 20/200 or less in the better eye with the use of a correcting lens. An eye which is accompanied by a limitation in the fields of vision such that the widest diameter of the visual field subtends an angle no greater than 20 degrees shall be considered for purposes of this paragraph as having a central visual acuity of 20/200 or less” (42 U.S.C. 416(i)(1)(B)). Under this priority, the RRTC must contribute to the following outcomes:

(a) Evidence-based interventions and practices designed to facilitate competitive employment outcomes for individuals who are blind or visually impaired. The RRTC must contribute to this outcome by developing and evaluating new interventions and practices, evaluating practices currently in use, or by conducting both of these types of research.

(b) New knowledge about employment interventions and practices for individuals who are blind or visually impaired, and who are also at greater risk for poor employment outcomes due to other individual characteristics (e.g., individuals with more severe vision loss or individuals with multiple disabilities). The RRTC must contribute to this outcome by conducting research with at least one at-risk group (as described earlier in this paragraph) to: Develop and evaluate new interventions or practices, evaluate practices currently being used with members of the at-risk group, or by conducting both of these types of research. Applicants must identify the specific at-risk group or groups they propose to study, provide evidence that the selected population or populations are, in fact, at greater risk for poor employment outcomes, and explain how the proposed interventions and practices are expected to address the needs of the population or populations.

(c) Increased incorporation of research findings into practice and policy. The RRTC must contribute to this outcome by:

(1) Collaborating with providers of vocational rehabilitation (VR) services, employer groups, and stakeholders (e.g., individuals who are blind or visually impaired, consumer groups, or relevant nongovernmental or nonprofit organizations) in conducting the work of the RRTC; and

(2) Conducting training and dissemination activities to facilitate the utilization of research findings in employment, educational, and VR settings.

(d) In addition, through coordination with the NIDRR Project Officer, this RRTC must collaborate with:

(1) Appropriate NIDRR-funded grantees, including knowledge translation grantees; and

(2) Relevant Office of Special Education Programs and Rehabilitation Services Administration grantees.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

This notice does not preclude us from proposing additional priorities, requirements, definitions, or selection criteria, subject to meeting applicable rulemaking requirements.

Note: This notice does not solicit applications. In any year in which we choose to use this priority, we invite applications through a notice in the Federal Register.

Executive Order 12866: This notice has been reviewed in accordance with Executive Order 12866. Under the terms of the order, we have assessed the potential costs and benefits of this final regulatory action.

The potential costs associated with this final regulatory action are those resulting from statutory requirements and those we have determined as necessary for administering this program effectively and efficiently.

In assessing the potential costs and benefits—both quantitative and qualitative—of this final regulatory action, we have determined that the benefits of the final priority justify the costs.

Discussion of Costs and Benefits

The benefits of the Disability and Rehabilitation Research Projects and Centers Program have been well established over the years in that similar projects have been completed successfully. This final priority will generate new knowledge and technologies through research, development, dissemination, utilization, and technical assistance projects.

Another benefit of this final priority is that the establishment of a new RRTC will support and will improve the lives of individuals with disabilities. The new RRTC will generate, disseminate, and promote the use of new information that will improve the options for individuals with disabilities to obtain, retain, and advance in employment.

Accessible Format: Individuals with disabilities can obtain this document in an accessible format (e.g., braille, large print, audiotape, or computer diskette) by contacting the Grants and Contracts Services Team, U.S. Department of Education, 400 Maryland Avenue, SW., Room 5075, PCP, Washington, DC 20202-2550. Telephone: (202) 245-7363. If you use a TDD, call the FRS, toll free, at 1-800-877-8339.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Dated: June 10, 2010.
Alexa Posny,
Assistant Secretary for Special Education and Rehabilitative Services.

[FR Doc. 2010-14987 Filed 6-18-10; 8:45 am]

BILLING CODE 4000-01-P